DEPARTMENT OF HOMELAND SECURITY

Coast Guard

33 CFR Part 100

[Docket No. USCG-2024-0753]

Special Local Regulation; Olympia Harbor Days Tugboat Races, Budd Inlet, WA

AGENCY: Coast Guard, DHS.

ACTION: Notification of enforcement of regulation.

SUMMARY: The Coast Guard will enforce a special local regulation for the Olympia Harbor Days Tugboat Races from 12 until 3 p.m. on September 1, 2024, to ensure the safety of life on the navigable waters of Budd Inlet during the event. During the enforcement period, no person or vessel may enter the regulated area without permission from the on-scene patrol craft.

DATES: The regulations in 33 CFR 100.1309 will be enforced from noon until 3 p.m. on September 1, 2024.

FOR FURTHER INFORMATION CONTACT: If you have questions about this notification of enforcement, call or email Lieutenant Anthony Pinto, Waterways Management Division, U.S. Coast Guard Sector Puget Sound at 205-217-6051 or SectorPugetSoundWWM@uscg.mil.

SUPPLEMENTARY INFORMATION: The Coast Guard will enforce special local regulation in 33 CFR 100.1309 for the Olympia Harbor Days Tugboat Races in Budd Inlet, WA, from noon until 3 p.m. on September 1, 2024. This action is necessary to ensure the safety of life on the navigable waterways of Budd Inlet during this event. The regulation for the marine events within the Thirteenth Coast Guard District, § 100.1309(a), specifies the location of the regulated area for the Olympia Harbor Days Tugboat Races, which encompasses approximately 2 nautical miles of the navigable waters in Budd Inlet, WA. During the enforcement period, as specified in § 100.1309(c), all persons or vessels who desire to enter the regulated race area while it is enforced must obtain permission from the on-scene patrol craft on VHF Ch 13.

In addition to this notice of enforcement in the Federal Register, the Coast Guard plans to provide notification of this enforcement period via the Local Notice to Mariners, marine information broadcasts, local radio stations and area newspapers. If the Captain of the Port determines that the regulated area does not need to be enforced for the full duration stated in this notice, a Broadcast Notice to Mariners will be issued to grant general permission to enter the regulated area.

Dated: August 20, 2024.
Mark A. McDonnell,
Captain, U.S. Coast Guard, Commander, Sector Puget Sound.

[FR Doc. 2024-19300 Filed 8-27-24; 8:45 am]

BILLING CODE 9110-04-P